DEPARTMENT OF TRANSPORTATION

Pipeline and Hazardous Materials Safety Administration

Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR Part 107, Subpart B), notice is hereby given of the actions on special permits applications in (September to September 2014). The mode of transportation involved are identified by a number in the “Nature of Application” portion of the table below as follows: 1—Motor vehicle, 2—Rail freight, 3—Cargo vessel, 4—Cargo aircraft only, 5—Passenger-carrying aircraft Application numbers prefixed by the letters EE represent applications for Emergency Special Permits. It should be noted that some of the sections cited were those in effect at the time certain special permits were issued.

Issued in Washington, DC, on October 7, 2014.
Donald Burger,
Chief, Special Permits and Approvals Branch.

S.P No. | Applicant | Regulation(s) | Nature of special permit thereof
MODIFICATION SPECIAL PERMIT GRANTED
15806-M | Precision Technik, Atlanta, GA | 49 CFR, 173.3(d)(2)(ii) | To modify the special permit to authorize an increase in the minimum allowable working pressure.
13027-M | Hernco Fabrication & Services, Midland, TX | 49 CFR 173.202, 173.203, 173.241, 173.242, and 173.243 | To modify the special permit to authorize a new vent.
NEW SPECIAL PERMIT GRANTED
15977-N | Universal Lubricants, LLC, Wichita, KS | 49 CFR 173.28 (b)(7)(iii)(C) | To authorize the transportation in commerce of certain solvents in previously used steel drums without leakproof testing. (mode 1)
16011-N | Americase, Waxahache, TX | 49 CFR 173.185 | To authorize the manufacture, marking and sale of two specially designed packagings intended for the transport of prototype and damaged lithium cells, batteries and equipment containing damaged lithium cells and batteries by road, rail, vessel and cargo aircraft. (modes 1, 2, 3, 4)
16013-N | Chem Technologies, Ltd., Middlefield, OH | 49 CFR 172.101 Table, Column (7) and 173.241(e)(1) | To authorize the transportation in commerce of certain Class 4 and 5 hazardous materials in UN50G large packagings. (modes 1, 3, 4, 5)
16060-N | Daeryuk Can Manufacturing Co., Ltd, Youngin-Myeon, Asan-Si, Ch | 49 CFR 173.304a | To authorize the manufacture, marking, sale and use of non-DOT specification inside containers for transportation of Isobutane/Propane mixtures. (modes 1, 2, 3)
16108-N | Carleton Technologies Inc., Westminster, MD | 49 CFR 173.302a, 173.304a and 180.205 | To authorize the manufacture, marking, sale and use ocarbon and glass fiber reinforced, aluminum-lined composite cylinders for use in transporting certain Division 2.1 and 2.2 hazardous materials. (modes 1, 2, 3, 4, 5)
16146-N | U.S. Department of Defense (DOD), Scott AFB, IL | 49 CFR 171.22(e), 172.101 Hazardous Materials Table Column (98), International Civil Aviation Organization's Technical Instructions Part 3, Chapter 2, Table 3-1, Columns 12 and 13 | To authorize the transportation in commerce of certain Division 1.1, 1.2 and 1.3 explosives that are forbidden for transportation by cargo aircraft. (mode 4).
16165-N | HRD Aero Systems, Inc., Valencia, CA | 49 CFR 173.302a | To authorize the manufacture, marking and sale of a non-DOT specification pressure vessel comparable to a DOT-3HT cylinder for the transportation of compressed gas. (modes 1, 2, 4, 5)
16185-N | SMI Companies, Inc., Franklin, LA | 49 CFR 171.8 | To authorize the manufacture, marking, sale and use of a non-DOT specification portable tank with a capacity of 150 liters similar to a UN Portable T20 Tank for the transportation of bromoacetone. (modes 1, 2)
16187-N | Sandia National Laboratories, Albuquerque, NM | 49 CFR 173.222(c)(1) | To authorize the transportation in commerce of 70 pounds of solid lithium with an argon blanket in a non-DOT specification pressure vessel by motor vehicle. (mode 1)
EMERGENCY SPECIAL PERMIT GRANTED
16035-M | LCF Systems, Inc., Scottsdale, AZ | 49 CFR 173.302a | To modify the special permit to authorize an additional year for shipments and increase the number of cylinders shipped. (modes 1, 3, 4)
11818-M | The Boeing Company, Chicago, IL | 49 CFR 172.101 Column 9(B), 173.301(f), 173.302a(a)(1), and 173.304a(a)(2) | To modify the special permit to authorize the package secured in a fully enclosed trailer in lieu of a strong outer package. (modes 1, 3, 4)
14924-M | Demex International Inc., Picayune, MS | 49 CFR 176.144(e), 176.145(b), 176.137(b)(7), 176.63(e), 176.83; 176.116(e); 176.120; 176.138(b); 176.164(e); 176.178(b) | To modify the special permit by adding an additional Division 1.1D material. (mode 3)
DENIED
16211-N | Request by East Penn Manufacturing Company Inc. Lyon Station, PA September 10, 2014. To authorize the transportation in commerce of lead acid batteries that weigh up to 75 kg as materials of trade.
15747-M | Request by UPS, Inc. Atlanta, GA September 18, 2014. To authorize alternative marking of trailer numbers.
16244-N | Cobham, Westminster, MD | 49 CFR Parts 106, 107, 171-180, ISO 11119-2 | Special Permit (SP) for the manufacturing, mark, sale and use of Carbon and Glass fiber reinforced, aluminum lined composite pressure vessels, rated up to 7500 psi service pressure. (modes 1, 2, 3, 4, 5)

[FR Doc. 2014-25168 Filed 10-31-14; 8:45 am]

BILLING CODE 4909-60-M